DEPARTMENT OF LABOR

Employment and Training Administration

[TA-W-83,094]

Caterpillar Reman Powertrain Services, Inc., a Subsidiary of Caterpillar, Inc., Including On-Site Leased Workers From Robert Half/Accountemps, Aerotek, Phillips Staffing, Hagemeyer and ATS, Inc., Summerville, South Carolina; Amended Certification Regarding Eligibility To Apply for Worker Adjustment Assistance

In accordance with Section 223 of the Trade Act of 1974, as amended (“Act”), 19 U.S.C. 2273, the Department of Labor issued a Certification of Eligibility to Apply for Worker Adjustment Assistance on October 29, 2013, applicable to workers of Caterpillar Reman Powertrain Services, Inc., a subsidiary of Caterpillar, Inc., including on-site leased workers from AccountTemps, Aerotek, Phillips Staffing, Hagemeyer and ATS, Inc., Summerville, South Carolina. The workers are engaged in activities related to remanufactured automotive and hydraulic parts. The notice was published in the Federal Register on November 21, 2013 (78 FR 69882).

At the request of the State, the Department reviewed the certification for workers of the subject firm. New information from the company shows that a worker leased from Robert Half/AccounTemps was employed on-site at the Summerville, South Carolina location of Caterpillar Reman Powertrain Services, Inc., a subsidiary of Caterpillar, Inc. The Department has determined that this worker was sufficiently under the control of Salter Labs to be considered a leased worker.

The intent of the Department's certification is to include all workers of the subject firm who were adversely affected by a shift in the production of remanufactured automotive and hydraulic parts to a foreign country. Based on these findings, the Department is amending this certification to include workers leased from Robert Half/AccounTemps working on-site at the Summerville, South Carolina location of the subject firm.

The amended notice applicable to TA-W-83,094 is hereby issued as follows:

All workers from Caterpillar Reman Powertrain Services, Inc., a subsidiary of Caterpillar, Inc., including on-site leased workers from Robert Half/AccounTemps, Aerotek, Phillips Staffing, Hagemeyer and ATS, Inc., Summerville, South Carolina, who became totally or partially separated from employment on or after September 17, 2012, through October 29, 2015, and all workers in the group threatened with total or partial separation from employment on date of certification through two years from the date of certification, are eligible to apply for adjustment assistance under Chapter 2 of Title II of the Trade Act of 1974, as amended.

Signed at Washington, DC, this 14th day of January 2014.
Michael W. Jaffe,
Certifying Officer, Office of Trade Adjustment Assistance.

[FR Doc. 2014-01540 Filed 1-27-14; 8:45 am]

BILLING CODE 4510-FN-P